DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from March 9 to March 13, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: April 21, 2009.
J. Paul Loether,
Chief, National Register of Historic Places/National Historic Landmarks Program.

Key: State, County, Property Name, Address/Boundary, City, Vicinity, Reference Number, Action, Date, Multiple Name.

ALABAMA

Lee County

Sunny Slope, 1031 S. College St., Auburn, 08001116, Listed, 3/12/09

ARKANSAS

Carroll County

Concord School House, 805 Co. Rd. 309, Eureka Springs vicinity, 08001334, Listed, 3/09/09

IOWA

Polk County

Boyt Company Building, 210 Court Ave., Des Moines, 09000108, Listed, 3/10/09

Sioux County

Hawarden City Hall, Fire Station and Auditorium, 715 Central Ave., Hawarden, 09000107, Listed, 3/10/09

MISSISSIPPI

Jefferson County

Hays House, 18800 Hwy. 61 S., Lorman, 09000111, Listed, 3/10/09

Lafayette County

South Lamar Historic District, S. Lamar Blvd. and University Ave., Oxford, 09000112, Listed, 3/10/09

Montgomery County

Winona Community House, 113 Sterling St., Winona, 09000113, Listed, 3/10/09

NEW YORK

Chautauqua County

Midway Park, NY 430, Maple Springs, 09000133, Listed, 3/13/09

Greene County

Woodward Road Stone Arch Bridge, Woodward Rd., E. Durham, 09000134, Listed, 3/09/09

New York County

SHEARWATER (schooner), N. Cove Marina, New York, 09000135, Listed, 3/09/09

Suffolk County

Tuthill-Lapham House, 324 Sound Rd., at corner of Sunset Blvd., Wading River, 09000136, Listed, 3/13/09

TENNESSEE

Knox County

Church Street Methodist Church, 913 Henley St., Knoxville, 09000115, Listed, 3/10/09 (Knoxville and Knox County MPS)

Roane County

Abston Garage, 505 Winter Gap Ave., Oliver Springs, 09000117, Listed, 3/10/09

Sullivan County

Gammon House, 324 6th St., Bristol, 09000119, Listed, 3/10/09

VIRGINIA

Fauquier County

Hopefield, 6763 Airlie Rd., Warrenton vicinity, 09000120, Listed, 3/10/09

Giles County

Pyne, Q.M., Store, 168 Village St., Eggleston, 09000121, Listed, 3/13/09

Staunton Independent City

Lee, Robert E., High School, 274 Churchville Ave., Staunton, 09000122, Listed, 3/10/09

[FR Doc. E9-9478 Filed 4-24-09; 8:45 am]

BILLING CODE P